DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Healthcare Integrity and Protection Data Bank for Final Adverse Information on Health Care Providers, Suppliers and Practitioners (45 CFR 61) (OMB No. 0915-0239)—[Extension]

This is a request for extension of OMB approval of the information collections contained in regulations found in 45 CFR part 61 governing the Healthcare Integrity and Protection Data Bank (HIPDB) and the forms to be used in reporting information to and requesting information from the HIPDB cleared under OMB No. 0915-0239. The HIPDB is authorized by section 1128E of the Social Security Act (hereinafter referred to as section 1128E), as added by section 221(a) of the Health Insurance Portability and Accountability Act of 1996. Section 1128E directs the Secretary of Health and Human Services (the Secretary) to establish a national health care fraud and abuse data collection program for the reporting and disclosing of certain final adverse actions (excluding settlements in which no findings of liability have been made) taken against health care providers, suppliers, or practitioners. It also directs the Secretary to maintain a database of final adverse actions taken against health care providers, suppliers, or practitioners. The regulations implementing section 1128E governing the operation of the HIPDB are codified at 45 CFR part 61. The HIPDB became operational November 22, 1999.

Approval is requested to continue the following reporting data collection and disclosure requirements and the ensuing HIPDB forms along with the instructions. The recordkeeping, reporting, and disclosure requirements are specified in the regulations to implement the HIPDB. The annual estimate of burden is as follows:

Distribution of Burden by Regulatory Citation
Regulation citation | No. of respondents | Responses per respondent | Total responses** | Hours per response | Total burden hours | Wage rate | Total cost
§ 61.6 (a), (b)
Errors & Omissions | 188 | 4.4 | 817 | 15 min. | 204.25 | $25 | $5,106
§ 61.6
Revisions/Appeal Status | 130 | 26.9 | 3,492 | 30 min. | 1,746 | 25 | 43,650
§ 61.7
Reporting By State Licensure Boards | 305 | 80.8 | 24,640 | 45 min. | 18,480 | 25 | 462,000
§ 61.8
Reporting of State Criminal Convictions | 45 | 56 | 2,518 | 45 min. | 1,888.5 | 43 | 81,205
§ 61.9
Reporting of Civil Judgments | 4 | 2.5 | 10 | 45 min. | 7.5 | 43 | 322
§ 61.10 (b)
Reporting Exclusions from participation in Federal and State Health Care Programs | 9 | 320.3 | 2,883 | 20 min. | 961.0 | 38 | 36,518
§ 61.11
Reporting of Adjudicated Actions/Decisions | 92 | 17 | 1562 | 45 min. | 1,171.5 | 43 | 50,375
§ 61.12 Request for Information
State and Federal Agencies | 855 | 279.3 | 238,814 | 5 min. | 19,901.26 | 25 | 497,531.50
Health Plans | 1,239 | 532.4 | 659,617 | 5 min. | 54,968.1 | 30 | 1,649,043
Health Care Providers, Suppliers and Practitioners (self query) | 50,416 | 1 | 50,416 | 25 min. | 21,006.7 | 45 | 945,301.50
§ 61.12(a)(4)
Requests by Researchers for Aggregate Data | 1 | 1 | 1 | 30 min. | .5 | 38 | 19
§ 61.15
Dispute Report | 300 | 1 | 300 | 5 min | 25 | 45 | 1,125
Add Report Statement | 669 | 1 | 669 | 45 min | 501.8 | 100 | 50,180
Request for Secretarial Review | 15 | 1 | 15 | 480 min | 120 | 200 | 24,000
Administrative Forms* | 0 | 0 | 0 | 0 | 0 | 0 | 0
Total | 54,268 |  | 985,754 |  | 120,982.11 |  | 3,846,376
*Note: The burden for Administrative Forms has been accounted for in the NPDB OMB clearance renewal submission.
**Numbers in the table may not add up exactly due to rounding.

E-mail comments to paperwork@hrsa.gov or mail the HRSA Reports Clearance Officer, Room 10-33, Parklawn Building, 5600 Fishers Lane, Rockville, MD 20857. Written comments should be received within 60 days of this notice.

Dated: May 19, 2010.
Sahira Rafiullah,
Director, Division of Policy and Information Coordination.

[FR Doc. 2010-12516 Filed 5-24-10; 8:45 am]

BILLING CODE 4165-15-P